DEPARTMENT OF HOMELAND SECURITY

Coast Guard

[USCG-2024-0041]

Area Maritime Security Advisory Committee Sector Honolulu

AGENCY: Coast Guard, DHS.

ACTION: Solicitation for Membership.

SUMMARY: The Coast Guard requests individuals interested in serving on the Hawaii and American Samoa Area Maritime Security Committee (AMSC) submit their applications for membership to the Captain of the Port Sector Honolulu (COTP). The Committee assists the COTP as the Federal Maritime Security Coordinator (FMSC), Honolulu, in developing, reviewing, and updating the Area Maritime Security Plan (AMSP) for their area of responsibility.

DATES: Requests for membership should reach the COTP Sector Honolulu by 11:59 p.m. on May 31, 2024.

ADDRESSES: Applications for membership should be submitted to the COTP at the following address: USCG Sector Honolulu, 400 Sand Island Parkway, Honolulu, HI 96819.

FOR FURTHER INFORMATION CONTACT: For questions about submitting an application, or about the AMSC in general, contact Scott Higbee, 808-842-2693, scott.m.higbee2@uscg.mil.

SUPPLEMENTARY INFORMATION:

Basis and Purpose

Section 102 of the Maritime Transportation Security Act (MTSA) of 2002 (Pub. L. 107-295) added section 70112 to title 46 of the U.S. Code and authorized the Secretary of the Department in which the Coast Guard is operating to establish Area Maritime Security Committees (AMSC) for any port area of the United States. (See 33 U.S.C. 1226; 46 U.S.C. 70112; 33 CFR 1.05-1, 6.01; Department of Homeland Security Delegation No. 00170.1(II)(71), Revision No. 01.3.) The MTSA includes a provision exempting these AMSCs from the Federal Advisory Committee Act (Pub. L. 117-286, 5 U.S.C., ch. 10).

The AMSCs shall assist the Federal Maritime Security Coordinator (FMSC) in the development, review, update, and exercising of the Area Maritime Security Plan (AMSP) for their area of responsibility. Such matters may include, but are not limited to: identifying critical port infrastructure and operations, identifying risks (threats, vulnerabilities, and consequences), determining mitigation strategies and implementation methods, developing strategies to facilitate the recovery of the Maritime Transportation System after a Transportation Security Incident, developing and describing the process to continually evaluate overall port security by considering consequences and vulnerabilities, how they may change over time, and what additional mitigation strategies can be applied, and providing advice to, and assisting the FMSC in developing and maintaining the AMSP.

AMSC Composition

The composition of an AMSC is prescribed under 33 CFR 103.305. Pursuant to the regulation, members may be selected from the Federal, Territorial, or Tribal government; the State government and political subdivisions of the State; local public safety, crisis management, and emergency response agencies; law enforcement and security organizations; maritime industry, including labor; other port stakeholders having a special competence in maritime security; and port stakeholders affected by security practices and policies. Members of the AMSC should have at least five years of experience related to maritime or port security operations.

AMSC Membership

The Hawaii and American Samoa AMSC has approximately 15 members. The Committee is seeking to fill two vacancies with this solicitation. Applicants may be required to pass an appropriate security background check prior to appointment to the committee. Members' terms of office will be for five years; however, a member is eligible to serve additional terms of office. Members will not receive any salary or other compensation for their service on an AMSC.

Request for Applications

Those seeking membership are not required to submit formal applications to the local COTP. However, because the Hawaii and American Samoa AMSC does have an obligation to ensure that a specific number of members have the prerequisite maritime security experience, the submission of resumes highlighting experience in the maritime and security industries is encouraged.

The Coast Guard does not discriminate in selection of committee members on the basis of race, color, religion, sex, national origin, political affiliation, sexual orientation, gender identity, marital status, disability and genetic information, age, membership in an employee organization, or other non-merit factor. The Coast Guard strives to achieve a widely diverse candidate pool for all of its recruitment actions.

Dated: March 4, 2024.
Aja L. Kirksey,
Captain, U.S. Coast Guard, Captain of the Port/Federal Maritime Security Coordinator Honolulu.

[FR Doc. 2024-07794 Filed 4-11-24; 8:45 am]

BILLING CODE 4910-15-P